DEPARTMENT OF EDUCATION

National Assessment Governing Board; Meeting

AGENCY: National Assessment Governing Board; Education

ACTION: Notice of open meeting and partially closed meetings.

SUMMARY: This notice sets forth the schedule and proposed agenda of a forthcoming meeting of the National Assessment Governing Board. This notice also describes the functions of the Board. Notice of this meeting is required under Section 10(a)(2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov no later than July 26, 2002. We will attempt to meet requests after this date, but cannot guarantee availability of the requested accommodation. The meeting site is accessible to individuals with disabilities. This notice is being submitted to the Federal Register less than 15 days before the date of the meeting due to administrative delays.

DATES: August 1-August 3, 2002.

Times: August 1: Assessment Development Committee: Closed Session 10 a.m. to 3 p.m.; Executive Committee Meeting: Open Session 4:30 p.m.-6 p.m.; Closed Session 6 p.m. to 7:30 p.m.

August 2: Full Board Meeting: Open Session 9 a.m.-12:30 p.m.; Committee Meetings: Assessment Development Committee 10:30 a.m.-12:30 p.m.; Committee on Standards, Design and Methodology, 10:30 a.m.-12:30 p.m.; Reporting and Dissemination Committee, 10:30 a.m.-12:30 p.m.; Full Board—Closed Meeting 12:30 p.m.-1:30 p.m.; Open Meeting 1:30 p.m.-2:45 p.m.; Closed Meeting, 3 p.m.-4:30 p.m.

August 3: Full Board Meeting: Closed Session 8:45 a.m.-9:30 a.m.; Full Board Open Meeting, 9:30 a.m.-12 p.m.

Location: The Four Seasons Hotel, 2800 Pennsylvania Avenue NW., Washington, DC 20007.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994, as amended by the No Child Left Behind Act of 2001 (Pub. L. 107-110).

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On August 2, 2002 the full Board will convene in open session from 9 a.m.-10:30 a.m. The Board will approve the agenda; receive the Executive Director's report and a NAEP Update from the Deputy Commissioner of NCES, Gary Phillips. The Board will then preview proposed policies on the NAEP program. From 10:30 a.m. to 12:30 p.m., the Board's standing committees—the Assessment Development Committee, the Committee on Standards, Design, and Methodology, and the Reporting and Dissemination Committee will meet in open session.

The full Board will reconvene in closed session on August 2, 2002 from 12:30 p.m.-1:30 p.m. to receive a briefing on market basket reporting. This briefing will include confidential information on NAEP test items. Disclosure of the specific test items would significantly frustrate implementation of the NAEP program, and is therefore protected by exemption 9(B) of section 552b(c) of Title 5 U.S.C.

The full Board will reconvene in open session on August 2, from 1:30 p.m. to 2:45 p.m. to receive final recommendations on the NAEP Economics Framework project and to receive a report on NAEP/NAGB reauthorization. From 3 p.m. to 4:30 p.m. the full Board will meet in closed session to review and discuss test items from the Main NAEP Mathematics Assessment. Disclosure of the specific test items for the NAEP Mathematics Assessment would significantly frustrate implementation of the NAEP program, and is therefore protected by exemption 9(B) of section 552b(c) of Title 5 U.S.C.

The full Board will meet in partially closed session on August 3, 2002 from 8:45 a.m. to 9:30 a.m. to receive an update on nominations for Board membership. This discussion pertains solely to internal personnel rules and practices of an agency and will disclose information of a personal nature where disclosure would constitute an unwarranted invasion of personal privacy. As such, the discussions are protected by exemptions (2) and (6) of section 552b(c) of Title 5 U.S.C.

The full Board will meet in open session on August 3, 2002 from 9:30 a.m. to 12 p.m. The Board will receive a presentation on NAEP data on the Internet from 9:30 a.m. to 10 a.m. The Board will then hear and take action on Committee reports from 10 a.m. to 11:45 a.m. Subsequently, from 11:45 a.m. to 12 noon, the Board will elect the Board Vice Chair. The August 3, 2002 session of the Board meeting will adjourn at 12 noon.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 9 a.m. to 5 p.m. Eastern Standard Time.

Dated: July 19, 2002.
Roy Truby,
Executive Director, National Assessment Governing Board.

[FR Doc. 02-18673 Filed 7-23-02; 8:45 am]

BILLING CODE 4000-01-M